DEPARTMENT OF COMMERCE

Foreign-Trade Zones Board

[B-88-2016]

Foreign-Trade Zone (FTZ) 68—El Paso, Texas; Authorization of Production Activity; PGTEX USA, Inc.; (Fiber Glass Fabrics) El Paso, Texas

On December 19, 2016, PGTEX USA, Inc. (PGTEX) submitted a notification of proposed production activity to the FTZ Board for its facility within FTZ 68—Site 3, in El Paso, Texas.

The notification was processed in accordance with the regulations of the FTZ Board (15 CFR part 400), including notice in the Federal Register inviting public comment (82 FR 1316-1317, January 5, 2017). The FTZ Board has determined that no further review of the activity is warranted at this time. The production activity described in the notification is authorized, subject to the FTZ Act and the FTZ Board's regulations, including Section 400.14, and further subject to a restriction requiring that foreign-status yarns (glass fiber) (HTSUS 7019.19), glass fibers (HTSUS 7019.90), and polyester yarn (HTSUS 5402.33) be admitted to the subzone in privileged foreign status (19 CFR 146.41).

Dated: April 18, 2017.
Andrew McGilvray,
Executive Secretary.

[FR Doc. 2017-08318 Filed 4-24-17; 8:45 am]

BILLING CODE 3510-DS-P